ENVIRONMENTAL PROTECTION AGENCY

[FRL-8503-7]

Proposed CERCLA Administrative Cost Recovery Settlement; Benjamin Schilberg and Schilberg Integrated Metals Corporation, Cadlerock Properties Site, Ashford and Willington, CT

AGENCY: Environmental Protection Agency.

ACTION: Notice of proposed settlement; request for public comment.

SUMMARY: In accordance with Section 122(i) of the Comprehensive Environmental Response Compensation, and Liability Act, as amended (“CERCLA”), 42 U.S.C. 9622(i), notice is hereby given of a proposed administrative settlement, that includes a compromise of past response costs, concerning the Cadlerock Properties Superfund Site in Ashford and Willington, Connecticut with the following settling parties: Benjamin Schilberg and Schilberg Integrated Metals Corporation. The settlement requires the settling parties to perform removal activities at the Site. The settlement includes a covenant not to sue the settling parties pursuant to Section 106 and 107(a) of CERCLA, 42 U.S.C. 9606 and 9607(a). For thirty (30) days following the date of publication of this notice, the Agency will receive written comments relating to the compromise of past response costs. The Agency will consider all comments received and may modify or withdraw its consent to this portion of the settlement if comments received disclose facts or considerations which indicate that the settlement is inappropriate, improper, or inadequate.

The Agency's response to any comments received will be available for public inspection at One Congress Street, Boston, MA 02114-2023.

DATE: Comments must be submitted by January 9, 2008.

ADDRESSES: Comments should be addressed to Sarah Meeks, Enforcement Counsel, U.S. Environmental Protection Agency, Region 1, One Congress Street, Suite 1100 (SES), Boston, Massachusetts 02114-2023 (Telephone No. 617-918-1438) and should refer to: In re: Cadlerock Properties Superfund Site, U.S. EPA Docket No. 01-2007-0156.

FOR FURTHER INFORMATION CONTACT: A copy of the proposed settlement may be obtained from Sarah Meeks, Enforcement Counsel, U.S. Environmental Protection Agency, Region I, One Congress Street, Suite 1100 (SES), Boston, Massachusetts 02114-2023 (Telephone No. 617-918-1438; E-mail meeks.sarah@epa.gov).

Dated: November 20, 2007.
James T. Owens, III,
Director, Office of Site Remediation and Restoration.

[FR Doc. E7-23879 Filed 12-7-07; 8:45 am]

BILLING CODE 6560-50-P